DEPARTMENT OF ENERGY

Federal Energy Regulatory Commission

[Docket No. CP03-53-001]

Natural Gas Pipeline Company of America; Notice of Compliance Filing

April 9, 2003.

Take notice that on April 3, 2003, Natural Gas Pipeline Company of America (Natural) tendered for filing to become part of its FERC Gas Tariff, the following tariff sheets, with an effective date of May 27, 2003:

Sixth Revised Volume No. 1

Fourth Revised Sheet No. 4B

Second Revised Volume No. 2

Twenty-Sixth Revised Sheet No. 1B

Sixth Revised Sheet No. 1760

Natural states that the purpose of this filing is to cancel Natural's Rate Schedule X-129, which provided for a firm gas transportation service, with related interruptible overrun gas transportation service, by Natural for Texas Gas Transmission Corporation (Texas Gas) pursuant to a gas transportation agreement between Natural and Texas Gas dated October 20, 1981, as amended.

Natural states that the subject tariff sheets are being filed in compliance with Ordering Paragraph (A) of the Federal Energy Regulatory Commission's order issued March 21, 2003 in Docket No. CP03-53-000 (March 21st Order). Natural explains that such order authorized Natural to abandon, effective May 27, 2003, its firm gas transportation service with related interruptible overrun gas transportation service for Texas Gas authorized in Docket No. CP82-50, as amended.

Natural states that copies of the filing have been mailed to all parties set out on the Commission's official service list in Docket No. CP03-53.

Any person desiring to protest said filing should file a protest with the Federal Energy Regulatory Commission, 888 First Street, NE., Washington, DC 20426, in accordance with Section 385.211 of the Commission's Rules and Regulations. All such protests must be filed on or before the comment date. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. Comments, protests and interventions may be filed electronically via the Internet in lieu of paper. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: April 30, 2003.

Magalie R. Salas,
Secretary.

[FR Doc. 03-9235 Filed 4-15-03; 8:45 am]

BILLING CODE 6717-01-P